DEPARTMENT OF THE INTERIOR

Fish and Wildlife Service

Notice of Hanford Reach National Monument Federal Advisory Committee Meetings

AGENCY: Fish and Wildlife Service, Department of the Interior.

ACTION: Notice of Hanford Reach National Monument Federal Planning Advisory Committee meetings.

SUMMARY: The U.S. Fish and Wildlife Service (Service) is announcing three meetings of the Hanford Reach National Monument Federal Planning Advisory Committee (Committee). In these meetings, the Committee will continue its work on making recommendations to the Service and the Department of Energy (DOE) on the preparation of a Comprehensive Conservation Plan and associated Environmental Impact Statement (CCP/EIS) which will serve as a long-term management plan for the Hanford Reach National Monument. The Committee's recommendations will focus on identifying and reconciling land management issues, while meeting the directives of Presidential Proclamation 7319 establishing the monument.

DATES: The Committee has scheduled the following meetings:

1. Thursday, January 15, 2004, 9:30 a.m. to 4:30 p.m., Richland, Washington.

2. Wednesday, February 25, 2004, 9:30 a.m. to 4:30 p.m., Richland, Washington.

3. Thursday, April 29, 2004, 9:30 a.m. to 4:30 p.m., Richland, Washington.

ADDRESSES: All three meetings will be held at the Washington State University Tri-Cities Consolidated Information Center, 2770 University Drive, Rooms 120 and 120A, Richland, Washington.

Written comments may be submitted to Mr. Greg Hughes, Designated Federal Official for the Hanford Reach National Monument Federal Planning Advisory Committee, Hanford Reach National Monument/Saddle Mountain National Wildlife Refuge, 3250 Port of Benton Blvd., Richland, Washington, 99352; fax (509) 375-0196. Copies of the draft meeting agenda may be obtained from the Designated Federal Official. Comments may be submitted via email to hanfordreach@fws.gov. Additional information regarding the monument and the CCP is available on the monument's Internet site at http://hanfordreach.fws.gov.

FOR FURTHER INFORMATION CONTACT: For further information concerning the meetings, contact Mr. Greg Hughes, Designated Federal Official, via telephone at (509) 371-1801, or fax at (509) 375-0196.

SUPPLEMENTARY INFORMATION: Committee meetings are open to the public. Verbal comments may be submitted during the course of the meetings, and written comments may be submitted at the close of the meetings, mailed to the monument office address, or submitted via e-mail. Over the next several months, the Committee will receive information from the Planning Team on the Draft CCP/EIS, and present advice to the Service and DOE on draft products for the CCP/EIS. The Committee will also nominate and elect a chair and a vice-chair after new Committee members are appointed.

Dated: November 26, 2003.
David J. Wesley,
Acting Regional Director, U.S. Fish and Wildlife Service, Portland, Oregon.

[FR Doc. 03-30585 Filed 12-9-03; 8:45 am]

BILLING CODE 4310-55-P